DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies and State approval agencies whose applications to the Secretary for initial or renewed recognition or whose interim reports will be reviewed at the Advisory Committee meeting to be held on June 10-11, 2004.

Where Should I Submit My Comments?

Please submit your written comments by March 22, 2004, to Ms. Carol Griffiths, Accreditation and State Liaison. You may contact her at the U.S. Department of Education, room 7105, MS 8509, 1990 K Street, NW., Washington, DC 20006, telephone: (202) 219-7011. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies and State Approval Agencies. The Criteria are regulations found in 34 CFR Part 602 (for accrediting agencies) and in 34 CFR Part 603 (for State approval agencies) and are found at the following site: http://www.ed.gov/admins/finaid/accred.

We will also include your comments with the staff analyses we present to the Advisory Committee at its June 2004 meeting. Therefore, in order for us to give full consideration to your comments, it is important that we receive them by March 22, 2004. In all instances, your comments about agencies seeking initial or continued recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition he grants to the agency. The following agencies will be reviewed during the June 2004 meeting of the Advisory Committee:

Nationally Recognized Accrediting Agencies

Petitions for Initial Recognition

1. Middle States Commission on Secondary Schools (Requested scope of recognition: The accreditation of institutions with postsecondary, non-degree granting career and technology programs, in Delaware, Maryland, New Jersey, New York, Pennsylvania, the Commonwealth of Puerto Rico, the District of Columbia, and the U.S. Virgin Islands).

Petitions for Renewal of Recognition

1. Accrediting Bureau of Health Education Schools (Current scope of recognition: The accreditation of private, postsecondary allied health education institutions and institutions that offer predominantly allied health programs, private medical assistant programs, and public and private medical laboratory technician programs leading to the Associate of Applied Science and the Associate of Occupational Science degrees.) (Requested scope of recognition: The accreditation of private, postsecondary institutions in the United States offering predominantly allied health education, medical assistant programs, and medical laboratory technician programs leading to a certificate, diploma or the Associate of Applied Science and Associate of Occupational Science degrees, including those offered via distance education.)

2. Association of Theological Schools in the United States and Canada, Commission on Accrediting (Current scope of recognition: The accreditation and preaccreditation (“Candidate for Accredited Status”) of freestanding institutions, as well as schools affiliated with larger institutions, that offer graduate professional education for ministry and graduate study of theology in the United States) (Requested scope of recognition: The accreditation and preaccreditation (“Candidate for Accredited Membership”) of freestanding theological schools and seminaries and schools or programs that are parts of colleges or universities offering graduate professional and graduate academic theological education, including delivery via distance education.)

3. Commission on Massage Therapy Accreditation (Current scope of recognition: The accreditation of institutions in the United States, that award postsecondary certificates or diplomas in the practice of massage therapy and bodywork.) (Requested scope of recognition: The accreditation of institutions in the United States, that award postsecondary certificates or diplomas, including Associates degrees, in the practice of massage therapy and bodywork.)

4. North Central Association Commission on Accreditation and School Improvement, Board of Trustees (Requested scope of recognition: The accreditation and preaccreditation [“Candidacy status”] of schools offering non-degree, postsecondary education in Arizona, Arkansas, Colorado, Illinois, Indiana, Iowa, Kansas, Michigan, Minnesota, Missouri, Nebraska, New Mexico, North Dakota, Ohio, Oklahoma, South Dakota, West Virginia, Wisconsin, Wyoming, and in the Navajo Nation.)

Interim Reports (An interim report is a follow-up report on an accrediting agency's compliance with specific criteria for recognition that was requested by the Secretary when the Secretary granted renewed recognition to the agency.)

1. American Academy for Liberal Education.

2. American Optometric Association, Accreditation Council on Optometric Education.

3. American Speech-Language-Hearing Association, Council on Academic Accreditation in Audiology and Speech-Language Pathology.

4. National Accrediting Commission of Costmetology Arts and Sciences.

5. National Association of Schools of Art and Design, Commission on Accreditation.

6. National Association of Schools of Dance, Commission on Accreditation.

7. National Association of Schools of Music, Commission on Accreditation, Commission on Non-Degree-Granting Accreditation, Commission on Community/Junior College Accreditation.

8. National Association of Schools of Theatre, Commission on Accreditation.

9. New England Association of Schools and Colleges, Commission on Institutions of Higher Education.

10. New England Association of Schools and Colleges, Commission on Technical and Career Institutions.

11. New York State Board of Regents, the Commissioner of Education.

12. North Central Association of Colleges and Schools, The Higher Learning Commission.

13. Northwest Commission on Colleges and Universities.

State Agencies Recognized for the Approval of Public Postsecondary Vocational Education

Petition for Initial Recognition

1. Pennsylvania State Board for Vocational Education.

Petition for Renewal of Recognition

1. Puerto Rico State Agency for the Approval of Public Postsecondary Vocational, Technical Institutions and Programs.

Interim Reports

1. Oklahoma Board of Career and Technology Education.

State Agencies Recognized for the Approval of Nurse Education

Petitions for Renewal of Recognition

1. Montana State Board of Nursing.

2. North Dakota Board of Nursing.

Where Can I Inspect Petitions and Third-Party Comments Before and After the Meeting?

All petitions and those third-party comments received in advance of the meeting, will be available for public inspection and copying at the U.S. Department of Education, room 7105, MS 8509, 1990 K Street, NW., Washington, DC 20006, telephone (202) 219-7011 between the hours of 8 a.m. and 3 p.m., Monday through Friday, until May 17, 2004. They will be available again after the June 10-11 Advisory Committee meeting. An appointment must be made in advance of such inspection or copying.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gpo/nara/index.html.

Authority: 5 U.S.C. Appendix 2.

Dated: January 30, 2004.
Sally L. Stroup,
Assistant Secretary for Postsecondary Education.

[FR Doc. 04-2533 Filed 2-4-04; 8:45 am]

BILLING CODE 4000-01-P